DEPARTMENT OF COMMERCE

Census Bureau

Notice of Correction to Filing of Federal Register Notice for 2018 End-to-End Census Test—Address Canvassing Operation

AGENCY: Census Bureau, Commerce.

ACTION: Notice of correction.

SUMMARY: On January 10, 2017, Federal Register Document 2017-00196 was published under the Department of Commerce. This document should be posted with Agency name Census Bureau and with the document title 2018 End-to-End Census Test—Address Canvassing Operation.

There are no other changes or corrections to this document.

Sheleen Dumas,
PRA Departmental Lead, Office of the Chief Information Officer.

[FR Doc. 2017-04296 Filed 3-3-17; 8:45 am]

BILLING CODE 3510-07-P